U.S.-CHINA ECONOMIC AND SECURITY REVIEW COMMISSION

Notice of Open Meetings To Prepare the 2015 Annual Report to Congress

Advisory Committee: U.S.-China Economic and Security Review Commission.

ACTION: Notice of open meetings to be held in Washington, DC to review and edit drafts of 2015 Annual Report to Congress on the following dates: July 8-9, August 12-13, September 16-17, and October 7-8, 2015.

SUMMARY: Notice is hereby given of meetings of the U.S.-China Economic and Security Review Commission.

Name: William A. Reinsch, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions . . .”

Purpose of Meetings: Pursuant to this mandate, members of the Commission will meet in Washington, DC on July 8-9, August 12-13, September 16-17, and October 7-8, 2015 to review and edit drafts of the 2015 Annual Report to Congress.

The Commission is subject to the Federal Advisory Committee Act (FACA) with the enactment of the Science, State, Justice, Commerce and Related Agencies Appropriations Act, 2006 that was signed into law on November 22, 2005 (Pub. L. 109-108). In accordance with FACA, the Commission's meeting to make decisions concerning the substance and recommendations of its 2015 Annual Report to Congress are open to the public.

Topics To Be Discussed: The Commissioners will be considering draft report sections addressing the following topics:

• U.S.-China Economic and Trade Relations, including: The foreign investment climate in China, China's economic reforms, and commercial cyber espionage and barriers to digital trade in China.

• Security and Foreign Policy Issues Involving China, including: China's space and counterspace programs; and China's offensive missile forces.

• China and the world, including: China and Central Asia, China and Southeast Asia, Taiwan, and Hong Kong.

Dates, Times, and Room Locations (Eastern Daylight Time):

• Wednesday and Thursday, July 8-9, 2015 (9:00 a.m. to 5:00 p.m.)—Room 231

• Wednesday and Thursday, August 12-13, 2015 (9:00 a.m. to 5:00 p.m.)—Room 231

• Wednesday and Thursday, September 16-17, 2015 (9:00 a.m. to 5:00 p.m.)—Room 231

• Wednesday and Thursday, October 7-8, 2015 (9:00 a.m. to 5:00 p.m.)—Room 231

ADDRESSES: All report review-editing sessions will be held in The Hall of the States (North Bldg., 2nd Floor), located at 444 North Capitol Street NW., Washington, DC 20001.

Public seating is limited and will be available on a “first-come, first-served” basis. Advanced reservations are not required. All participants must register at the front desk of the lobby.

Required Accessibility Statement: The entirety of these Commission editorial and drafting meetings will be open to the public. The Commission may recess the public editorial/drafting sessions to address administrative issues in closed session.

The open meetings will also be adjourned around noon for a lunch break. At the beginning of the lunch break, the Chairman will announce what time the Annual Report review and editing session will reconvene.

FOR FURTHER INFORMATION CONTACT: Reed Eckhold, Congressional Liaison and Director of Communications, U.S.-China Economic and Security Review Commission, 444 North Capitol Street NW., Suite 602, Washington, DC 20001; Phone: (202) 624-1496; Email: reckhold@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: June 9, 2015.
Michael Danis,
Executive Director, U.S.-China Economic and Security Review Commission.

[FR Doc. 2015-14456 Filed 6-12-15; 8:45 am]

BILLING CODE 1137-00-P